DEPARTMENT OF THE TREASURY

Office of Foreign Assets Control

31 CFR Part 548

Publication of a Belarus Sanctions Regulations Web General License

AGENCY: Office of Foreign Assets Control, Treasury.

ACTION: Publication of a web general license.

SUMMARY: The Department of the Treasury's Office of Foreign Assets Control (OFAC) is publishing a general license (GL) issued pursuant to the Belarus Sanctions Regulations: GL 12. This GL was previously made available on OFAC's website.

DATES: GL 12 was issued on November 4, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On November 4, 2025, OFAC issued GL 12 to authorize certain transactions otherwise prohibited by the Belarus Sanctions Regulations, 31 CFR part 548. GL 12 was made available on OFAC's website (https://ofac.treasury.gov) when it was issued. The text of this GL is provided below.

OFFICE OF FOREIGN ASSETS CONTROL

Belarus Sanctions Regulations

31 CFR Part 548

GENERAL LICENSE NO. 12

Authorizing Transactions Related to Certain Blocked Aircraft

(a) Except as provided in paragraph (c) of this general license, all transactions prohibited by the Belarus Sanctions Regulations, 31 CFR part 548 (BSR), related to the following aircraft are authorized:

(1) aircraft with tail number EW-001PA and serial number 33079;

(2) aircraft with tail number EW-001PB and serial number 33968; or

(3) aircraft with tail number EW-001PH and serial number 31835.

Note to paragraph (a). The authorization in paragraph (a) of this general license includes transactions related to the use of the aircraft by Alyaksandr Lukashenka or Foreign Limited Liability Company Slavkali, persons blocked pursuant to the BSR that have an interest in such aircraft.

(b) Except as provided in paragraph (c) of this general license, the aircraft identified in paragraph (a) of this general license are unblocked.

(c) This general license does not authorize:

(1) The unblocking of any funds that were blocked on or before 12:01 a.m. eastern standard time, November 4, 2025; or

(2) Any transactions otherwise prohibited by the BSR, including transactions involving any person blocked pursuant to the BSR other than those persons and transactions described in the note to paragraph (a) of this general license.

Note to General License No. 12. Nothing in this general license relieves any person from compliance with any other Federal laws or requirements of other Federal agencies, including the International Traffic in Arms Regulations (ITAR) administered by the Department of State and the Export Administration Regulations (EAR) administered by the Department of Commerce.

Bradley T. Smith,

Director, Office of Foreign Assets Control.

Dated: November 4, 2025.
Bradley T. Smith,
Director, Office of Foreign Assets Control.

Editorial Note: This document was received by the Office of the Federal Register on February 26, 2026.

[FR Doc. 2026-04091 Filed 2-27-26; 8:45 am]

BILLING CODE P